DEPARTMENT OF TRANSPORTATION

Pipeline and Hazardous Materials Safety Administration

International Standards on the Transport of Dangerous Goods; Public Meeting

AGENCY: Pipeline and Hazardous Materials Safety Administration (PHMSA), Department of Transportation.

ACTION: Notice of public meetings.

SUMMARY: This notice is to advise interested persons that PHMSA will conduct a public meeting in preparation for the 34th session of the United Nations Sub-Committee of Experts on the Transport of Dangerous Goods (UNSCOE TDG) to be held November 30-December 9, 2008 in Geneva, Switzerland. During this meeting, PHMSA is also soliciting comments relative to potential new work items which may be considered for inclusion in its international agenda, and comments relative to a potential future rulemaking action regarding the use and applicability of international standards.

This notice also provides information relative to a separate public meeting in preparation for the 16th Session of the United Nations Sub-Committee of Experts on the Globally Harmonized System of Classification and Labelling of Chemicals (UNSCOE GHS) to be held December 10-12, 2008.

Information Regarding the UNSCOE TDG Meeting:

DATES: Wednesday, November 17, 2008; 8 a.m.-11 a.m.

ADDRESSES: The UNSCOE TDG meeting will be held at the DOT Headquarters, West Building, Oklahoma City Conference Room, 1200 New Jersey Avenue, SE., Washington, DC 20590.

Conference call capability/live meeting information: Conference call-in and “live meeting” capability will be provided for this meeting. To participate by telephone, dial 1 (888) 324-9365 and enter participant passcode 61017. During the call, please press *6 to mute/unmute your individual line. This will ensure participants are not subjected to any background noise from individual lines. In addition, “live meeting” provides a way to view information presented during the meeting via the Internet. To access “live meeting” please follow the instructions posted on our Web site at: http://www.phmsa.dot.gov/hazmat/regs/international.

FOR FURTHER INFORMATION CONTACT: Mr. Duane Pfund, Director, Office of International Standards or Mr. Shane Kelley, International Transportation Specialist, Office of Hazardous Materials Safety, Department of Transportation, Washington, DC 20590; (202) 366-0656.

SUPPLEMENTARY INFORMATION: The primary purpose of this meeting will be to prepare for the 34th session of the UNSCOE TDG and to discuss draft U.S. positions on UNSCOE proposals. The 34th session of the UNSCOE TDG is the final meeting in the current biennium cycle. The UNSCOE will consider proposals for the 16th Revised Edition of the United Nations Recommendations on the Transport of Dangerous Goods Model Regulations which will come into force in the international regulations from January 1, 2011. Topics to be covered during the public meetings include:

Transport of limited quantities and consumer commodities, use of electronic documentation, requirements for toxic by inhalation liquids, requirements for cryogenic receptacles, requirements for lithium batteries, fumigated units and dry ice, harmonization with the IAEA Regulations for the safe transport of radioactive materials, guiding principles for the development of the Model Regulations, and various proposals related to listing, classification, packaging, and hazard communication.

In addition, PHMSA is soliciting comments on how to further enhance harmonization for international transport of hazardous materials. PHMSA is finalizing an international strategic plan to address harmonization and welcomes input on items which stakeholders believe should be included in this plan.

Finally, PHMSA is soliciting comments regarding a potential future rulemaking action regarding the use of international regulations, in particular the International Civil Aviation Organization's Technical Instructions for the Safe Transport of Dangerous Goods by Air (ICAO TI) and the International Maritime Dangerous Goods Code (IMDG Code). PHMSA is considering proposing to mandate the use of these regulations for the international transportation (see 49 CFR 171.8) of hazardous materials by aircraft or vessel. PHMSA requests comments regarding this prospective proposal. PHMSA is interested in comments including, but not limited to, comments related to the safety and economic implications of mandating the use of these regulations for international shipments, as well as implications to training of personnel.

The public is invited to attend without prior notification. Due to the heightened security measures participants are encouraged to arrive early to allow time for security checks necessary to obtain access to the building. Following the 34th session of the UNSCOE TDG to present the results of the session, PHMSA will place a copy of the Sub-Committee's report and an updated copy of the pre-meeting summary document on PHMSA's Hazardous Materials Safety Homepage at http: //hazmat.dot.gov/regs/intl/intstandards.htm.

Documents

Copies of documents for the UNSCOE TDG meeting and the meeting agenda may be obtained by downloading them from the United Nations Transport Division's Web site at: http://www.unece.org/trans/main/dgdb/dgsubc/c32008.html. This site may also be accessed through PHMSA's Hazardous Materials Safety Web site at http: //hazmat.dot.gov/regs/intl/intstandards.htm. PHMSA's site provides additional information regarding the LTNSCOE TDG and related matters such as a summary of decisions taken at previous sessions of the UNSCOE TDG.

Information regarding the UNSCOE GHS meeting:

DATES: Thursday, November 18, 2008; 10 a.m.-12 p.m.

ADDRESSES: The UNSCOE GHS meeting will take place at the Environmental Protection Agency Potomac Yard One facility, Bellavista Conference Room (11100, 11th Floor), 2777 S. Crystal Drive, Arlington, VA 22202. To facilitate entry, please have a picture ID available and/or a U.S. Government building pass if applicable.

FOR FURTHER INFORMATION CONTACT: Kristen Hendricks, Field and External Affairs Division, Office of Pesticide Programs (703) 308-0308, hendricks.kristen(epa.gov) or Dorothy Semazzi, Field and External Affairs Division, Office of Pesticide Programs (703) 347-8540, semazzi.dorothy@epa.gov).

Conference Call Information: To participate in the meeting by conference call, dial 1 (866) 299-3188, and enter participant passcode 7033080308.

SUPPLEMENTARY INFORMATION: The Environmental Protection Agency is hosting this open informal meeting of the Interagency GHS Coordinating Group to provide interested groups and individuals with an update on GHS-related issues and an opportunity to present their views orally and in writing for consideration in developing draft U.S. positions for the upcoming UNSCOE GHS meeting. The Agenda will include:

1. Introductions.

2. Key issues/documents to be considered in December UNSCOE GHS.

3. Proposals for next biennium program of work.

4. Public comments.

Documents

Copies of documents for the December UNSCOE GHS meeting, the meeting agenda, and reports and documents from previous sessions may be downloaded from the UN Web site at: http://www.unece.org/trans/main/dgdb/dgsubc4/c4age.html.

Theodore L. Willke,
Associate Administrator for Hazardous Materials Safety.

[FR Doc. E8-24718 Filed 10-16-08; 8:45 am]

BILLING CODE 4910-60-M